DEPARTMENT OF ENERGY

10 CFR Part 430

[Docket No. EERE-2012-BT-STD-0045]

RIN 1904-AC87

Energy Efficiency Program for Consumer Products: Energy Conservation Standards for Ceiling Fans: Availability of the Preliminary Technical Support Document

AGENCY: Office of Energy Efficiency and Renewable Energy, Department of Energy.

ACTION: Extension of public comment period.

SUMMARY: On September 29, 2014, the U.S. Department of Energy (DOE) published a notice of public meeting and availability of the preliminary technical support document (TSD) for ceiling fans energy conservation standards in the Federal Register. This document announces an extension of the public comment period for submitting comments on the TSD or any other aspect of the rulemaking for ceiling fans. The comment period is extended to December 9, 2014.

DATES: DOE will accept comments, data, and information regarding this rulemaking received no later than December 9, 2014.

ADDRESSES: Interested persons may submit comments, identified by docket number EERE-2011-BT-STD-0045 and/or Regulation Identification Number (RIN) 1904-AC87, by any of the following methods:

• Federal eRulemaking Portal: www.regulations.gov. Follow the instructions for submitting comments.

• Email: CeilingFan2012STD0045@ee.doe.gov. Include the docket number EERE-2011-BT-STD-0045 and/or RIN 1904-AC87 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx/ruleid/65. This Web page contains a link to the docket for this notice on the regulation.gov site. The www.regulations.gov Web page contains instructions on how to access all documents in the docket, including public comments.

FOR FURTHER INFORMATION CONTACT: Ms. Lucy deButts, U.S. Department of Energy, Office of Energy Efficiency and Renewable Energy, Building Technologies, EE-5B, 1000 Independence Avenue SW., Washington, DC 20585-0121. Telephone: (202)-287-1604. Email: ceiling_fans@ee.doe.gov.

In the Office of the General Counsel, contact Ms. Jennifer Tiedeman, U.S. Department of Energy, Office of the General Counsel, GC-33, 1000 Independence Avenue SW., Washington, DC 20585-0121. Telephone: (202)-287-6111. Email: Jennifer.Tiedeman@hq.doe.gov.

SUPPLEMENTARY INFORMATION: On September 29, 2014, the U.S. Department of Energy (DOE) published a notice of public meeting and availability of the preliminary technical support document in the Federal Register to make available and invite comments on the preliminary analysis for ceiling fans energy conservation standards. 79 FR 58290. The notice provided for the written submission of comments by November 28, 2014, and oral comments were also accepted at a public meeting held on November 19, 2014. Various stakeholders have requested an extension of the comment period to consider the preliminary technical support document and public meeting presentation, and to prepare and submit comments accordingly.

DOE has determined that an extension of the public comment period is appropriate based on the foregoing reason. DOE will consider any comments received by midnight of December 9, 2014, and deems any comments received by that time to be timely submitted.

Issued in Washington, DC, on November 21, 2014.
Kathleen B. Hogan,
Deputy Assistant Secretary for Energy Efficiency, Energy Efficiency and Renewable Energy.

[FR Doc. 2014-28127 Filed 11-26-14; 8:45 am]

BILLING CODE 6450-01-P